COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: December 22, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On September 13, September 20, and September 27, 2002, the Committee for Purchase From People Who Are Blind or Severely Disabled published notice (67 F.R. 58014, 59249, 61066 and 61067) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Braided Nylon, Type II Parachute Cord

4020-00-262-2019

NPA: East Texas Lighthouse for the Blind, Tyler, Texas

Contract Activity: Defense Supply Center Philadelphia, Philadelphia, Pennsylvania

Product/NSN: Dog Collar

M.R. 1975 (Small)

M.R. 1976 (Medium)

M.R. 1977 (Large)

Product/NSN: Dog Leash

M.R. 1978

NPA: L.C. Industries For The Blind, Inc., Durham, North Carolina

Contract Activity: Defense Commissary Agency (DeCA), Ft. Lee, Virginia

Services

Service Type/Location: Administrative Services—Human Resources, Department of Interior—South, Office of Surface Mining, Washington, DC

NPA: ServiceSource, Inc., Alexandria, Virginia

Contract Activity: Department of Interior—South, Washington, DC

Service Type/Location: Custodial Service, Building 4050, Fort Polk, Louisiana

NPA: Vernon Sheltered Workshop, Leesville, Louisiana

Contract Activity: Directorate of Contracting, Fort Polk, Louisiana

Service Type/Location: Telephone Switchboard Operations, Department of Veterans Affairs, Erie VA Medical Center, Erie, Pennsylvania

NPA: Elizabeth Pierce Olmsted, M.D. Center for the Visually Impaired, Buffalo, New York

Contract Activity: Erie Veterans Affairs Medical Center, Erie, Pennsylvania

Deletions

I certify that the following action will not have a significant impact on a substantial number of small entities. The major factors considered for this certification were:

1. The action may not result in any additional reporting, recordkeeping or other compliance requirements for small entities other than the small organizations that will furnish the products to the Government.

2. The action will not have a severe economic impact on future contractors for the products to the Government.

3. There are no known regulatory alternatives which would accomplish the objectives of the Javits-Wagner-O'Day Act (41 U.S.C. 46-48c) in connection with the products deleted from the Procurement List.

Accordingly, the following products are deleted from the Procurement List:

Products

Product/NSN: Clock, Atomic, Standard, Thermometer

6645-00-NIB-0076

NPA: The Chicago Lighthouse for People who are Blind or Visually Impaired, Chicago, Illinois

Contract Activity: Office Supplies & Paper Products Acquisition Center, New York, New York

Product/NSN: Clock, Wall, Battery

6645-01-467-8477

NPA: The Chicago Lighthouse for People who are Blind or Visually Impaired, Chicago, Illinois

Contract Activity: Office Supplies & Paper Products Acquisition Center, New York, New York

Product/NSN: Label, Pressure-Sensitive Adhesive

7530-00-577-4373

7530-00-577-4374

7530-00-577-4375

NPA: North Central Sight Services, Inc., Williamsport, Pennsylvania

Contract Activity: Office Supplies & Paper Products Acquisition Center, New York, New York

Product/NSN: Sheath, Pen and Pencil

7510-00-052-2664

NPA: York County Blind Center, York, Pennsylvania

Contract Activity: Office Supplies & Paper Products Acquisition Center, New York, New York

Product/NSN: SPEAR Insulation Subsystem

8415-01-F01-0197 (Silk Weight Undershirt & Drawers—XX-Large/Regular)

8415-01-F01-0204 (Mid Weight Undershirt & Drawers—XX-Large/Regular)

8415-01-F01-0211 (Stretch Overall—XX-Large/Regular)

8415-01-F01-0218 (Fleece Jacket—XX-Large/Regular)

8415-01-F01-0219 (One Set of 4-Layer Clothing—Small/Regular)

8415-01-F01-0220 (One Set of 4-Layer Clothing—Medium/Regular)

8415-01-F01-0221 (One Set of 4-Layer Clothing—Large/Regular)

8415-01-F01-0222 (One Set of 4-Layer Clothing—Large/Long)

8415-01-F01-0223 (One Set of 4-Layer Clothing—X-Large/Regular)

8415-01-F01-0224 (One Set of 4-Layer Clothing—X-Large/Long)

8415-01-F01-0225 (One Set of 4-Layer Clothing—XX-Large/Regular)

NPA: Peckham Vocational Industries, Inc., Lansing, Michigan

Contract Activity: U.S. Army Soldier Systems Command, Natick, Massachusetts

Sheryl D. Kennerly,
Director, Information Management.

[FR Doc. 02-29771 Filed 11-21-02; 8:45 am]

BILLING CODE 6353-01-P